DEPARTMENT OF ENERGY

Federal Energy Regulatory Commission

Combined Notice of Filings #1

Take notice that the Commission received the following electric corporate filings:

Docket Numbers: EC21-34-000.

Applicants: Kings Point Wind, LLC, The Empire District Electric Company.

Description: Application for Authorization Under Section 203 of the Federal Power Act of Kings Point Wind, LLC, et. al.

Filed Date: 12/14/20.

Accession Number: 20201214-5219.

Comments Due: 5 p.m. ET 1/4/21.

Take notice that the Commission received the following exempt wholesale generator filings:

Docket Numbers: EG21-54-000.

Applicants: PGR Lessee O, LLC.

Description: Self-Certification of exempt Wholesale Generator of PGR Lessee O, LLC.

Filed Date: 12/14/20.

Accession Number: 20201214-5161.

Comments Due: 5 p.m. ET 1/4/21.

Take notice that the Commission received the following electric rate filings:

Docket Numbers: ER10-2302-009.

Applicants: Public Service Company of New Mexico.

Description: Compliance filing: PNM Compliance Filing with November 13, 2020 Order to be effective 11/13/2020.

Filed Date: 12/14/20.

Accession Number: 20201214-5185.

Comments Due: 5 p.m. ET 1/4/21.

Docket Numbers: ER19-2674-002.

Applicants: New Mexico PPA Corporation.

Description: Compliance filing: MBR Filing in Compliance with November 13, 2020 Order to be effective 11/13/2020.

Filed Date: 12/14/20.

Accession Number: 20201214-5172.

Comments Due: 5 p.m. ET 1/4/21.

Docket Numbers: ER20-860-003.

Applicants: Green River Wind Farm Phase 1, LLC.

Description: Compliance filing: Reactive Power Compliance Filing to be effective 3/22/2020.

Filed Date: 12/15/20.

Accession Number: 20201215-5087.

Comments Due: 5 p.m. ET 1/5/21.

Docket Numbers: ER20-1890-003.

Applicants: California Independent System Operator Corporation.

Description: Compliance filing: 2020-12-15 Intertie Deviation Settlement—Compliance Filing to be effective 1/1/2021.

Filed Date: 12/15/20.

Accession Number: 20201215-5102.

Comments Due: 5 p.m. ET 1/5/21.

Docket Numbers: ER21-244-001.

Applicants: Duke Energy Carolinas, LLC.

Description: Tariff Amendment: Errata to Correct Location—DEC RS No. 318 Amendment 2021 to be effective 1/1/2021.

Filed Date: 12/14/20.

Accession Number: 20201214-5169.

Comments Due: 5 p.m. ET 12/21/21.

Docket Numbers: ER21-645-000.

Applicants: TransWest Express LLC.

Description: Application for authorization to sell transmission service rights at negotiated rates, request for approval of capacity allocation process, and request for waivers of TransWest Express LLC.

Filed Date: 12/11/20.

Accession Number: 20201211-5208.

Comments Due: 5 p.m. ET 1/4/21.

Docket Numbers: ER21-647-000.

Applicants: Arizona Public Service Company.

Description: § 205(d) Rate Filing: Rate Schedule No. 265, Amendment No. 3_PV—Morgan Joint Participation to be effective 2/15/2021.

Filed Date: 12/15/20.

Accession Number: 20201215-5083.

Comments Due: 5 p.m. ET 1/5/21.

Docket Numbers: ER21-648-000.

Applicants: Southwest Power Pool, Inc.

Description: § 205(d) Rate Filing: Revisions to Bylaws and Membership Agreement Regarding Partial Terminations to be effective 3/1/2021.

Filed Date: 12/15/20.

Accession Number: 20201215-5099.

Comments Due: 5 p.m. ET 1/5/21.

Docket Numbers: ER21-649-000.

Applicants: California Independent System Operator Corporation.

Description: § 205(d) Rate Filing: 2020-12-15 Rate Schedule No. 50 COI-POA to be effective 1/1/2021.

Filed Date: 12/15/20.

Accession Number: 20201215-5103.

Comments Due: 5 p.m. ET 1/5/21.

Docket Numbers: ER21-650-000.

Applicants: Rail Splitter Wind Farm II LLC.

Description: Request for Prospective One-Time, Limited Waiver of Tariff Provisions, et al. of Rail Splitter Wind Farm II LLC.

Filed Date: 12/14/20.

Accession Number: 20201214-5241.

Comments Due: 5 p.m. ET 12/24/21.

Docket Numbers: ER21-651-000.

Applicants: The Connecticut Light and Power Company.

Description: § 205(d) Rate Filing: Eastern CT Resource Recovery Authority Small Generator Interconnection Agreement to be effective 12/15/2020.

Filed Date: 12/15/20.

Accession Number: 20201215-5139.

Comments Due: 5 p.m. ET 1/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 15, 2020.
Kimberly D. Bose,
Secretary.

[FR Doc. 2020-28088 Filed 12-18-20; 8:45 am]

BILLING CODE 6717-01-P